U.S. INTERNATIONAL DEVELOPMENT FINANCE CORPORATION

[DFC-003]

Submission for OMB Review; Comments Request

AGENCY: U.S. International Development Finance Corporation (DFC).

ACTION: Notice of information collection; request for comment.

SUMMARY: Under the provisions of the Paperwork Reduction Act, agencies are required to publish a Notice in the Federal Register notifying the public that the agency is renewing an existing information collection for OMB review and approval and requests public review and comment on the submission. Comments are being solicited on the need for the information; the accuracy of the burden estimate; the quality, practical utility, and clarity of the information to be collected; and ways to minimize reporting the burden, including automated collected techniques and uses of other forms of technology.

DATES: Comments must be received by August 8, 2023.

ADDRESSES: Comments and requests for copies of the subject information collection may be sent by any of the following methods:

• Mail: Deborah Papadopoulos, Agency Submitting Officer, U.S. International Development Finance Corporation, 1100 New York Avenue NW, Washington, DC 20527.

• Email: fedreg@dfc.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Deborah Papadopoulos, (202) 357-3979.

SUPPLEMENTARY INFORMATION: This notice informs the public that DFC will submit to OMB a request for approval of the following information collection.

Summary Form Under Review

Title of Collection: Application for Political Risk Insurance.

Type of Review: Revision of a previously approved collection.

Agency Form Number: DFC-003.

OMB Form Number: 3015-0003.

Frequency: Once per investor per project.

Affected Public: Business or other for-profit; not-for-profit institutions; individuals.

Total Estimated Number of Annual Number of Respondents: 100.

Estimated Time per Respondent: 1 hour and 40 minutes.

Total Estimated Number of Annual Burden Hours: 166 hours and 40 minutes.

Abstract: The Application for Political Risk Insurance will be the principal document used by DFC to determine the investors' and the project's eligibility for political risk insurance coverage.

Dated: June 5, 2023.
Deborah Papadopoulos,
Records Management Specialist, Office of Administration.

[FR Doc. 2023-12346 Filed 6-8-23; 8:45 am]

BILLING CODE 3210-02-P